DEPARTMENT OF TRANSPORTATION

Federal Aviation Administration

14 CFR Part 39

[Docket No. FAA-2005-22018; Directorate Identifier 2005-CE-41-AD]

RIN 2120-AA64

Airworthiness Directives; Pilatus Aircraft Ltd. Models PC-12 and PC-12/45 Airplanes

AGENCY: Federal Aviation Administration (FAA), DOT.

ACTION: Notice of proposed rulemaking (NPRM).

SUMMARY: The FAA proposes to adopt a new airworthiness directive (AD) for certain Pilatus Aircraft Ltd. (Pilatus) Models PC-12 and PC-12/45 airplanes. This proposed AD would require you to determine (maintenance records check and/or inspection) whether certain nose landing gear (NLG), main landing gear (MLG), and MLG shock absorber assemblies with a serial number beginning with “AM” are installed, and, if installed, would require you to replace them with ones without the “AM.” This proposed AD is the result of mandatory continuing airworthiness information (MCAI) issued by the airworthiness authority for Switzerland. We are issuing this proposed AD to detect and correct the NLG, MLG, and MLG shock absorber assemblies that are affected by hydrogen embrittlement, which could result in failure of the landing gear. This failure could lead to nose or main landing gear collapse during operation with consequent loss of airplane control.

DATES: We must receive any comments on this proposed AD by September 23, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Pilatus Aircraft Ltd., Customer Liaison Manager, CH-6371 Stans, Switzerland; telephone: +41 41 619 6208; facsimile: +41 41 619 7311; e-mail: SupportPC12@pilatus-aircraft.com or from Pilatus Business Aircraft Ltd., Product Support Department, 11755 Airport Way, Broomfield, Colorado 80021; telephone: (303) 465-9099; facsimile: (303) 465-6040.

To view the comments to this proposed AD, go to http://dms.dot.gov. This is docket number FAA-2005-22018; Directorate Identifier 2005-CE-41-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How do I comment on this proposed AD? We invite you to submit any written relevant data, views, or arguments regarding this proposal. Send your comments to an address listed under ADDRESSES. Include the docket number, “FAA-2005-22018; Directorate Identifier 2005-CE-41-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-22018; Directorate Identifier 2005-CE-41-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Federal Office for Civil Aviation (FOCA), which is the airworthiness authority for Switzerland, recently notified FAA that an unsafe condition may exist on Pilatus Models PC-12 and PC-12/45 airplanes. The FOCA reports that some components of the main landing gear (MLG), nose landing gear (NLG), and MLG shock absorber assemblies have the potential to fail during operation.

Investigations revealed that an improper cadmium plating process applied to the high strength steel part causes the problem. This can result in hydrogen embrittlement. Affected are only components that are installed on MLG, NLG, and MLG shock absorber assemblies, with serial numbers that start with the letters “AM.” Components in this condition can experience a decreased fatigue life.

What is the potential impact if FAA took no action? Failure of the nose or main landing gear could lead to nose or main landing gear collapse during operation with consequent loss of airplane control.

Is there service information that applies to this subject? Pilatus has issued Pilatus PC12 Service Bulletin No. 32-016, dated March 11, 2004.

What are the provisions of this service information? The service bulletin includes procedures for:

—Checking to identify NLG, MLG, and MLG shock absorber assemblies with serial numbers that start with the letters AM; and

—Replacing, if necessary, specified components in all NLG, MLG, and MLG shock absorber assemblies which have serial numbers that start with the letters AM.

What action did the FOCA take? The FOCA classified this service bulletin as mandatory and issued Swiss AD Number HB-2005-168, dated May 3, 2005, to ensure the continued airworthiness of these airplanes in Switzerland.

Did the FOCA inform the United States under the bilateral airworthiness agreement? These Pilatus Models PC-12 and PC-12/45 airplanes are manufactured in Switzerland and are type-certificated for operation in the United States under the provisions of section 21.29 of the Federal Aviation Regulations (14 CFR 21.29) and the applicable bilateral airworthiness agreement.

Under this bilateral airworthiness agreement, the FOCA has kept us informed of the situation described above.

FAA's Determination and Requirements of This Proposed AD

What has FAA decided? We have examined the FOCA's findings, reviewed all available information, and determined that AD action is necessary for products of this type design that are certificated for operation in the United States.

Since the unsafe condition described previously is likely to exist or develop on other Pilatus Models PC-12 and PC-12/45 airplanes of the same type design that are registered in the United States, we are proposing AD action to detect and correct the NLG, MLG, and MLG shock absorber assemblies that are affected by hydrogen embrittlement which could result in failure of the landing gear. This failure could lead to nose or main landing gear collapse during operation with consequent loss of airplane control.

Even though the serial number effectivity of the FOCA AD and Pilatus service bulletin only includes MSN 101 through MSN 471 and MSN 473 through MSN 482, FAA believes that, although the practice of swapping of parts, components, and assemblies is rare, it is still possible. Therefore, we are proposing that the effectivity include Pilatus Models PC-12 and PC-12/45 airplanes with MSN 101 through MSN 625.

What would this proposed AD require? This proposed AD would require you to determine (maintenance records check and/or inspection) whether certain NLG, MLG, and MLG shock absorber assemblies with a serial number beginning with “AM” are installed, and, if installed, would require you to replace them with ones without the “AM.”

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 350 airplanes in the U.S. registry.

What would be the cost impact of this proposed AD on owners/operators of the affected airplanes? We estimate the following costs to do the proposed check of the logbook to identify NLG, MLG, and MLG shock absorber assemblies with serial numbers that start with the letters AM:

Labor cost | Parts cost | Total cost per airplane | Total cost on U.S. operators
1 work hour × $65 per hour = $65 | Not applicable | $65. | 350 × $65 = $22,750.

We estimate the following costs to do any necessary inspection and replacement of all possible NLG, MLG, and MLG shock absorber assemblies that would be required based on the results of this proposed check of the logbook. We have no way of determining the number of airplanes that may need this replacement:

Labor cost | Parts cost | Total cost per airplane
41 work hours × $65 per hour = $2,665 | $3,800 for the NLG kit, $850 for the MLG kit, and $2,600 for the MLG shock absorber assembly kit | $2,665 + $3,800 + $850 + $2,600 = $9,915.

Pilatus will provide warranty credit for replacing the specified assemblies to the extent stated in the service information.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-22018; Directorate Identifier 2005-CE-41-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pilatus Aircraft Ltd.: Docket No. FAA-2005-22018; Directorate Identifier 2005-CE-41-AD.

When Is the Last Date I Can Submit Comments on This Proposed AD?

(a) We must receive comments on this proposed airworthiness directive (AD) by September 23, 2005.

What Other ADs Are Affected By This Action?

(b) None.

What Airplanes Are Affected by This AD?

(c) This AD affects Models PC-12 and PC-12/45 airplanes, manufacturer serial numbers (MSN) 101 through MSN 625, that are certificated in any category.

What Is the Unsafe Condition Presented in This AD?

(d) This AD is the result of mandatory continuing airworthiness information (MCAI) issued by the airworthiness authority for Switzerland. The actions specified in this AD are intended to detect and correct the nose landing gear (NLG), main landing gear (MLG), and MLG shock absorber assemblies that are affected by hydrogen embrittlement, which could result in failure of the landing gear. This failure could lead to nose or main landing gear collapse during operation with consequent loss of airplane control.

What Must I Do To Address This Problem?

(e) To address this problem, you must do the following:

Actions | Compliance | Procedures
(1) Maintenance Records Check: (i) For MSN 101 through MSN 471 and MSN 473 through MSN 482: Check the maintenance records to determine whether the following replacements have been made: (A) Nose landing gear (NLG) assemblies, part number (P/N) 532.20.12.038 and P/N 532.20.12.039 with serial numbers (S/N) AM 001 through AM 045 and AM 048 through AM 054; (B) Main landing gear (MLG) assemblies, P/N 532.10.12.049 and P/N 532.10.12.050 with S/N AM 001 thru AM 027, AM 029 through AM 045, AM 047 through AM 050, AM 052, and AM 053; and | Within the next 100 hours time-in-service (TIS) or 12 calendar months after the effective date of this AD, whichever occurs first, unless already done | No special procedures necessary to check the maintenance records.
(C) MLG shock absorber assemblies, P/N 532.10.12.175, with S/N AM 001 through AM 017, AM 019, AM 021 through AM 063, AM 065 through AM 070, AM 072 through AM 074, AM 080, AM 084, AM 086, AM 089, AM 090, AM 093 through AM 096, AM 099, AM 103 through AM 107
(ii) For MSN 472 and MSN 483 through MSN 625: Verify that the S/N parts identified in paragraphs (e)(1)(i)(A), (e)(1)(i)(B), and (e)(1)(i)(C) of this AD have not been installed
(iii) The owner/operator holding at least a private pilot certificate as authorized by section 43.7 of the Federal Aviation Regulations (14 CFR 43.7) may make this check. You must make an entry into the aircraft records that shows compliance with this portion of the AD in accordance with section 43.9 of the Federal Aviation Regulations (14 CFR 43.9)
(2) If you find as a result of the check required by paragraph (e)(1)(i) of this AD that there is no record of the specified assembly replacement, or as a result of the check required by paragraph (e)(1)(ii) of this AD that parts have been installed in the service, then inspect: (i) The NLG assemblies, P/N 532.20.12.038 and P/N 532.20.12.039, for any S/N that starts with AM 001 through AM 045 and AM 048 through AM 054 (ii) The MLG assemblies, P/N 532.10.12.049 and P/N 532.10.12.050, for any S/N that starts with AM 001 thru AM 027, AM 029 through AM 045, AM 047 through AM 050, AM 052, and AM 053 | Within the next 100 hours time-in-service (TIS) or 12 calendar months after the effective date of this AD, whichever occurs first, unless already done | Follow Pilatus PC12 Service Bulletin No. 32-016, dated March 11, 2004.
(iii) The MLG shock absorber assemblies, P/N 532.10.12.175, for any S/N that starts with AM 001 through AM 017, AM 019, AM 021 through AM 063, AM 065 through AM 070, AM 072 through AM 074, AM 080, AM 084, AM 086, AM 089, AM 090, AM 093 through AM 096, AM 099, and AM 103 through AM 107
(iv) You may choose to do the inspection without doing the maintenance records check
(3) If during the inspection required by paragraph (e)(2) of this AD, you find: (i) Any NLG assembly, P/N 532.20.12.038 and P/N 532.20.12.039, with any S/N that starts with AM 001 through AM 045 or AM 048 through AM 054, replace the NLG specific components with new components (ii) Any MLG assembly, P/N 532.10.12.049 and P/N 532.10.12.050, with any S/N that starts with AM 001 thru AM 027, AM 029 through AM 045, AM 047 through AM 050, AM 052, or AM 053, replace the MLG specific components with new components | Before further flight after the inspection required by paragraph (e)(2) of this AD | Follow Pilatus PC12 Service Bulletin No. 32-016, dated March 11, 2004.
(iii) Any MLG shock absorber assembly, P/N 532.10.12.175, with any S/N that starts with AM 001 through AM 017, AM 019, AM 021 through AM 063, AM 065 through AM 070, AM 072 through AM 074, AM 080, AM 084, AM 086, AM 089, AM 090, AM 093 through AM 096, AM 099, or AM 103 through AM 107, replace the MLG shock absorber specific components with new components
(4) Do not install: (i) Any NLG assembly, P/N 532.20.12.038 and P/N 532.20.12.039, with any S/N that starts with AM 001 through AM 045 or AM 048 AD. through AM 054 | As of the effective date of this AD | Not Applicable.
(ii) Any MLG assembly, P/N 532.10.12.049 and P/N 532.10.12.050, with any S/N that starts with AM 001 thru AM 027, AM 029 through AM 045, AM 047 through AM 050, AM 052, or AM 053
(iii) Any MLG shock absorber assembly, P/N 532.10.12.175, with any S/N that starts with AM 001 through AM 017, AM 019, AM 021 through AM 063, AM 065 through AM 070, AM 072 through AM 074, AM 080, AM 084, AM 086, AM 089, AM 090, AM 093 through AM 096, AM 099, or AM 103 through AM 107

Note 1: AD 2002-14-22, issued on July 8, 2002 (67 FR 46582), and AD 2004-06-05, issued on March 15, 2004 (69 FR 13712), are still applicable.

Note 2: The FAA recommends that you send any removed parts or assemblies to Pilatus.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

Is There Other Information That Relates to This Subject?

(g) Swiss AD Number HB-2005-168, dated May 3, 2005, also addresses the subject of this AD.

May I Get Copies of the Documents Referenced in This AD?

(h) To get copies of the documents referenced in this AD, contact Pilatus Aircraft Ltd., Customer Liaison Manager, CH-6371 Stans, Switzerland; telephone: +41 41 619 6208; facsimile: +41 41 619 7311; e-mail: SupportPC12@pilatus-aircraft.com or from Pilatus Business Aircraft Ltd., Product Support Department, 11755 Airport Way, Broomfield, Colorado 80021; telephone: (303) 465-9099; facsimile: (303) 465-6040. To view the AD docket, go to the Docket Management Facility; U.S. Department of Transportation, 400 Seventh Street, SW., Nassif Building, Room PL-401, Washington, DC, or on the Internet at http://dms.dot.gov. This is docket number FAA-2005-22018; Directorate Identifier 2005-CE-41-AD.

Issued in Kansas City, Missouri, on August 16, 2005.
Terry L. Chasteen,
Acting Manager, Small Airplane Directorate, Aircraft Certification Service.

[FR Doc. 05-16528 Filed 8-19-05; 8:45 am]

BILLING CODE 4910-13-P